DEPARTMENT OF THE INTERIOR

Office of the Secretary

[Docket No. ONRR-2012-0003]

U.S. Extractive Industries Transparency Initiative Advisory Committee

AGENCY: Interior, Office of the Secretary.

ACTION: Notice of meeting.

SUMMARY: In accordance with the requirements of the Federal Advisory Committee Act, 5 U.S.C. Appendix 2, the Department of the Interior, U.S. Extractive Industries Transparence Initiative Advisory Committee will meet as indicated below.

DATES: Wednesday, February 13, 2013, from 8:30 a.m. to 4:30 p.m., Eastern Standard Time.

ADDRESSES: Department of the Interior, 1849 C Street NW., Conference Room 5160, Washington, DC 20240.

FOR FURTHER INFORMATION CONTACT: Ms. Shirley Conway, Office of Natural Resources Revenue; 1849 C Street NW., Room 4217; Washington, DC 20240; telephone number (202) 513-0598; fax number (202) 513-0682; email Shirley.Conway@onrr.gov. Additional Committee information can be found at: http://www.doi.gov/eiti/FACA.

SUPPLEMENTARY INFORMATION: The USEITI Advisory Committee will serve as the initial USEITI Multi-Stakeholder Group and its duties will include consideration and fulfillment of the tasks required to achieve candidate and compliant status in the Extractive Industries Transparency Initiative (EITI). The Committee includes representatives from Government agencies, extractive industry, civil society organizations, and public stakeholders. Through a multi-year, consensus-based process the Committee will provide advice to the Secretary of the Interior to guide and oversee implementation of USEITI.

The EITI is a voluntary, global effort designed to increase transparency, strengthen the accountability of natural resource revenue reporting, and build public trust for the governance of these vital activities. Participating countries publicly disclose revenues received by the government for oil, gas, and mining development, while companies make corresponding disclosures regarding these same payments to the government, and both sets of data are reviewed and reconciled by a mutually agreed upon independent third party. Results are then released in a public report.

Meeting Agenda: At the first meeting, the Committee will receive informational briefings and will discuss and develop its goals and procedures, a meeting schedule and work plan for 2013.

Public Input: Interested members of the public may present, either orally or through written comments, information for the Committee to consider during the public meeting. The meeting is open to the public, but space is limited, so all interested in attending should preregister by close of business February 6, 2013. Individuals or groups requesting to make comments at the public Committee meeting will be allocated up to 3 minutes as time permits. Speakers who wish to expand their oral statements, or those who had wished to speak, but could not be accommodated during the public comment period are encouraged to submit their comments in written form after the meeting. To register, request placement on the speaker list, or submit written comments, please contact Ms. Shirley Conway via email at Shirley.Conway@onrr.gov, by phone at (202) 513-0598 or fax (202) 513-0682.

Dated: January 24, 2013.
Amy Holley,
Acting Assistant Secretary for Policy, Management and Budget Department of the Interior.

[FR Doc. 2013-01903 Filed 1-29-13; 8:45 am]

BILLING CODE 4310-T2-P